SECURITIES AND EXCHANGE COMMISSION

Sunshine Act Meeting

Notice is hereby given, pursuant to the provisions of the Government in the Sunshine Act, Public Law 94-409, that the Securities and Exchange Commission will hold an Open Meeting on Wednesday, September 18, 2013 at 10:00 a.m., in the Auditorium, Room L-002.

The subject matters of the Open Meeting will be:

• The Commission will consider whether to adopt new rules and forms under the Securities Exchange Act of 1934 relating to the registration of municipal advisors.

• The Commission will consider whether to propose rules to require companies to disclose the median annual total compensation of all employees and the ratio of that median to the annual total compensation of the company's chief executive officer as mandated by Section 953(b) of the Dodd-Frank Wall Street Reform and Consumer Protection Act.

The duty officer has determined that no earlier notice was possible.

At times, changes in Commission priorities require alterations in the scheduling of meeting items.

For further information and to ascertain what, if any, matters have been added, deleted or postponed, please contact:

The Office of the Secretary at (202) 551-5400.

Dated: September 13, 2013.
Elizabeth M. Murphy,
Secretary.

[FR Doc. 2013-22787 Filed 9-16-13; 11:15 am]

BILLING CODE 8011-01-P